DEPARTMENT OF HEALTH AND HUMAN SERVICES

National Institutes of Health

Office of the Director, National Institutes of Health; Notice of Meeting

Pursuant to section 10(a) of the Federal Advisory Committee Act, as amended (5 U.S.C. App.), notice is hereby given of a meeting of the NIH Scientific Management Review Board (SMRB). The meeting will be open to the public through teleconference at the number listed below.

The NIH Reform Act of 2006 (Public Law 109-482) provides organizational authorities to HHS and NIH officials to: (1) establish or abolish national research institutes; (2) reorganize the offices within the Office of the Director, NIH including adding, removing, or transferring the functions of such offices or establishing or terminating such offices; and (3) reorganize, divisions, centers, or other administrative units within an NIH national research institute or national center including adding, removing, or transferring the functions of such units, or establishing or terminating such units. The purpose of the SMRB is to advise appropriate HHS and NIH officials on the use of these organizational authorities and identify the reasons underlying the recommendations.

Name of Committee: Scientific Management Review Board (SMRB).

Date: July 6, 2015.

Time: 11:00 a.m. to 1:00 p.m. ET (Times are approximate and subject to change).

Agenda: At this meeting, the SMRB Working Group on the NIH Grant Review, Award, and Management Process will report their findings and recommendations on ways to streamline the grant award process, and present the Board with a draft of the Report on this topic. The SMRB members will deliberate the findings and recommendations developed by the Working Group and vote on whether to approve the Report. Time will be allotted on the agenda for public comment. To sign up for public comment, please submit your name and affiliation to the contact person listed below by 5:00 p.m. EST, June 29, 2015. Sign up will be restricted to one sign up per email. In the event that time does not allow for all those interested to present oral comments, anyone may file written comments using the contact person address below.

Place: National Institutes of Health, Office of the Director, NIH, Office of Science Policy, 6705 Rockledge Drive, Suite 750, Bethesda, MD 20892 (Telephone Conference Call).

Call-in Information: Toll-Free Number: 1- 888-603-9605. Participant Passcode: 9573616.

Contact Person: Sarah Rhodes, Office of Science Policy, Office of the Director, NIH, National Institutes of Health, 6705 Rockledge Drive, Suite 750, Bethesda, MD 20892, smrb@mail.nih.gov, (301) 443-5851.

The draft meeting agenda and other information about the SMRB, including information about access to the webcast, will be available prior to the meeting at http://smrb.od.nih.gov.

The teleconference will include opportunity for public comment, time allowing. In addition, any interested person may file written comments with the committee via email or regular mail. Comments via email should be sent to smrb@mail.nih.gov with “SMRB Public Comment” as the subject line, and comments via regular mail should be sent to 6705 Rockledge Drive, Suite 750, Bethesda, MD 20892, Attention: Sarah Rhodes. Comments should include the name, address, telephone number and, when applicable, the business or professional affiliation of the commenter. Written comments will be provided to SMRB members; those received by 5:00 p.m. EST, June 29, 2015, will be shared with the members prior to the meeting.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: June 4, 2015.
Melanie J. Gray,
Program Analyst, Office of Federal Advisory Committee Policy.

[FR Doc. 2015-14037 Filed 6-8-15; 8:45 am]

BILLING CODE 4140-01-P